DEPARTMENT OF TRANSPORTATION

Federal Aviation Administration

[Docket No. FAA-1999-5836; Notice No. 05-01]

RIN 2120-AC38

Repair Stations

AGENCY: Federal Aviation Administration (FAA), DOT.

ACTION: Notice of availability of AC; extension of comment period.

SUMMARY: This action extends the comment period for an Advisory Circular (AC) that was published on December 22, 2004. In that document, the FAA provided guidance to repair stations to establish their training programs. This extension is a result of requests from multiple commenters to extend the comment period for the AC.

DATES: Comments must be received on or before March 22, 2005.

ADDRESSES: Send all comments on AC 145-RSTP to Mr. Herbert E. Daniel, Aircraft Maintenance Division, General Aviation and Repair Station Branch (AFS-340), Federal Aviation Administration, 800 Independence Ave., SW., Washington, DC 20591; facsimile (202) 267-5115; e-mail Herbert.E.Daniel@faa.gov.

FOR FURTHER INFORMATION CONTACT: Mr. Herbert E. Daniel, AFS-340, at the address, facsimile, or e-mail listed above, or by telephone at (202) 267-3109; or Mr. Dan Bachelder, AFS-340, at the address or facsimile listed above or e-mail Dan.Bachelder@faa.gov or by telephone at (202) 267-7027.

SUPPLEMENTARY INFORMATION: Comments Invited: The proposed AC 145-RSTP is available on the FAA's Regulatory Guidance Library Web site at: http://www.airweb.faa.gov/Regulatory_and_Guidance_Library/rgDAC.nsf/MainFrame?OpenFrameSet. under the Open for Comment link. Interested persons are invited to comment on the AC by submitting written data, views, or suggestions, as they may desire. Please identify AC 145-RSTP, Repair Station Training Program, and submit comments, either hardcopy or electronic, to the appropriate address listed above.

Background

On December 22, 2004, the Federal Aviation Administration (FAA) issued the draft Advisory Circular AC 145-RSTP Repair Station Training Program (69 FR 76829, 12/22/2004). Comments to that document were to be received on or before January 21, 2005.

By letters dated January 3 and January 5, 2005, the Aircraft Electronics Association, Washington, DC and the National Air Transportation Association, Alexandria, VA requested that the FAA extend the comment period for AC 145-RSTP for 60 days. These and other industry associations stated that the original 30-day comment period did not allow repair stations adequate time to consider, review, and respond to the draft Advisory Circular while continuing to operate their businesses. All commenters requested an extension of the comment period by 60 days to provide sufficient time to evaluate this document before submitting comments to the FAA.

The FAA concurs with the requests for an extension of the comment period on AC 145-RSTP. The FAA agrees that additional time for comments will allow repair stations to review the document and formulate their comments while continuing to conduct their business. This will also allow commenters who may have anticipated an extension in the comment period to submit their comments by a certain date. Absent unusual circumstances, the FAA does not anticipate any further extension of the comment period for this AC.

Extension of Comment Period

Commenters have shown a substantive interest in the proposed AC and good cause for the extension. The FAA also has determined that extension of the comment period is consistent with the public interest, and that good cause exists for taking this action.

Accordingly, the comment period for AC 145-RSTP Repair Station Training Program is extended until March 22, 2005.

Issued in Washington, DC, January 14, 2005.
John M. Allen,
Acting Director, Flight Standards Service.

[FR Doc. 05-1130 Filed 1-14-05; 1:40 pm]

BILLING CODE 4910-13-P